DEPARTMENT OF THE INTERIOR

Bureau of Land Management

National Park Service

[ID 079 1610 DP 051D]

Notice of Availability of the Draft Management Plan and Draft Environmental Impact Statement (EIS) for the Craters of the Moon National Monument and Preserve

AGENCIES: Bureau of Land Management and National Park Service.

ACTION: Issuance of a Notice of Availability of a Draft EIS for a Draft Resource Management Plan/General Management Plan (hereinafter, Draft Plan/EIS), for the Craters of the Moon National Monument and Preserve. The Monument is located in Blaine, Butte, Lincoln, Minidoka, and Power Counties, in Idaho.

SUMMARY: The Bureau of Land Management and the National Park Service have jointly prepared a Draft Plan/EIS for the Craters of the Moon National Monument and Preserve. The Draft Plan/EIS describes and analyzes four alternative management strategies, each presenting a different approach to resolving issues identified through public scoping. The Draft Plan/EIS is now available for public review and comment.

DATES: Written comments on the Draft Plan/EIS will be accepted for 90 days following the date the Environmental Protection Agency publishes a notice of availability in the Federal Register. (As soon as possible after the Environmental Protection Agency's notice is published, the confirmed end date of the comment period will be posted on the two web sites listed below.) Future meetings or hearings and any other public involvement activities will be announced at least 15 days in advance through public notices, media news releases, and/or mailings. In addition, information regarding public meetings on the Draft Plan/EIS will be posted on the Internet at http://www.id.blm.gov/planning/craters/index.htm or http://www.nps.gov/crmo and sent to people who commented during scoping or asked to be on the mailing list. To receive full consideration, comments must be postmarked no later than the last day of the comment period.

ADDRESSES: The Draft Plan/EIS is posted on the web sites identified above and has been mailed to those who have indicated that they wanted to receive it in hard copy or on a compact disk. Additional copies in both paper and digital format are available in limited numbers. To receive a copy, write or call one of the individuals identified in the next paragraph. You may submit comments on the Draft Plan/EIS by any of the following methods:

• Mail: Craters of the Moon Planning Team, BLM Shoshone Field Office, 400 West F Street, Shoshone, ID 83352-1522

• E-mail: ID_Craters_Plan@blm.gov.

• Web site: http://www.id.blm.gov/planning/craters/index.htm or http://www.nps.gov/crmo.

• Fax: (208) 732-7317

Comments, including names and street addresses of respondents, will be available for public review at the BLM Shoshone Field Office, in Shoshone, Idaho, during regular business hours, 7:45 a.m. to 4:30 p.m., Monday through Friday, except holidays, and may be published as part of the final EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: Richard VanderVoet, Monument Manager, Bureau of Land Management, Shoshone Field Office, 400 West F Street, Shoshone, ID 83352-1522, phone (208) 732-7200 or Jim Morris, Superintendent, National Park Service, P.O. Box 29, Arco, ID 83213, phone (208) 527-3257.

SUPPLEMENTARY INFORMATION: Established in 1924, the Craters of the Moon National Monument was expanded by Presidential Proclamation 7373 on November 9, 2000, for the purpose of protecting the entire Great Rift volcanic zone and associated lava features, all objects of scientific interest. On August 21, 2002, Public Law 107-213 re-designated the National Park Service portion of the expanded Monument as a National Preserve. The Bureau of Land Management and National Park Service are managing the National Monument and Preserve cooperatively and are preparing one management plan to be implemented by both agencies.

Issues identified through public scoping to be addressed in the planning process are as follows:

(1) Development: What kinds of Monument facilities and services will be provided apart from the existing facilities?

(2) Transportation and Access: What type of road and trail system will be needed for travel to, and access within, the Monument?

(3) Public/Visitor Use and Safety: What will be the extent and location of public uses within the Monument?

(4) Authorized Uses: How will the different uses in the Monument be managed?

(5) Natural and Cultural Resources: How will natural and cultural resources be protected?

Four alternative strategies are described and analyzed, as follows: Alternative A (No-Action Alternative): Proposes no major changes in resource management, visitor programs, or facilities. It depicts current management under the Agencies' five existing management plans, as modified by Proclamation 7373, Public Law 107-213, and the Agencies' Interim Management Guidelines. Alternative A also serves as a baseline for comparison with the other three alternatives. Alternative B: Emphasizes a broad array of visitor experiences within the Monument. Alternative B provides the largest amount of multiple-use trail opportunities, improved access both inside and outside the Monument, and extensive educational/informational/directional signs and interpretive support facilities throughout the Monument. This alternative allocates areas to allow for potential new developments like designated rustic campsites, high standard motorized and non-motorized trail networks and a relatively high standard road system that provides easier access to many areas of the Monument. Alternative B also includes suggested management direction for access roads outside of the Monument. Alternative C: Emphasizes the Monument's primitive character. This alternative contains the least development of new visitor facilities. Management actions that influence resource conditions are as “light handed” and non-intrusive as possible including weed control and sagebrush steppe restoration. Alternative C has the fewest miles of maintained roads. Under this alternative, any new interpretive facilities would be located primarily outside the Monument. This alternative includes an 11,000 acre Area of Critical Environmental Concern (ACEC) designation in northern Laidlaw Park to provide special protective management for native plants. Management constraints associated with this ACEC would include prohibition of any new transportation routes and of any new livestock watering facilities within the designated ACEC. Alternative D (The agencies' Preferred Alternative. It is also identified as the Environmentally Preferred Alternative): Emphasizes restoration of physical and biological resources and processes. Alternative D contains the largest weed treatment and prevention program using all available tools. It prescribes the most aggressive fire management and sagebrush steppe restoration program. Alternative D places a greater emphasis than the other alternatives on promoting partnerships for visitor education and interpretation at existing facilities such as visitor centers, state parks, and gateway communities. This alternative also emphasizes the use of outfitters to meet recreation experience demands inside the expanded portion of the Monument.

Decision Process: Depending upon the degree of public interest and response from individuals, other agencies, and organizations, the Proposed Management Plan and final EIS for the Craters of the Moon National Monument and Preserve is expected to be published early in 2005. Availability of the document will be published in the Federal Register and through local news media. Subsequently, notice of an approved Record of Decision will be published in the Federal Register following the resolution of any protests regarding the Proposed Management Plan and final EIS. The officials responsible for the joint decision are the Regional Director of the Pacific West Region of the National Park Service and the State Director of the Bureau of Land Management for Idaho.

(Authority: 40 CFR 1506.6.)

Dated: December 2, 2003.
K Lynn Bennett,
Bureau of Land Management, Idaho State Director.
Dated: December 4, 2003.
Jonathan B. Jarvis,
National Park Service, Regional Director, Pacific West Region.

[FR Doc. 04-9364 Filed 4-29-04; 8:45 am]

BILLING CODE 4310-GG-P